DEPARTMENT OF ENERGY

Federal Energy Regulatory Commission

Combined Notice of Filings #1

September 24, 2010.

Take notice that the Commission received the following exempt wholesale generator filings:

Docket Numbers: EG10-70-000.

Applicants: Criterion Power Partners, LLC.

Description: Self-Certification of Exempt Wholesale Generator status of Criterion Power Partners, LLC.

Filed Date: 09/23/2010.

Accession Number: 20100923-5116.

Comment Date: 5 p.m. Eastern Time on Thursday, October 14, 2010.

Take notice that the Commission received the following electric rate filings:

Docket Numbers: ER03-9-020; ER98-2157-021.

Applicants: Westar Energy, Inc.; Kansas Gas and Electric Company.

Description: Notice of Change in Status of Westar Energy, Inc.

Filed Date: 09/23/2010.

Accession Number: 20100923-5172.

Comment Date: 5 p.m. Eastern Time on Thursday, October 14, 2010.

Docket Numbers: ER10-2029-002.

Applicants: Calpine Mid-Atlantic Marketing, LLC.

Description: Calpine Mid-Atlantic Marketing, LLC submits Supplement to Market Based Rate Application, to be effective 9/27/2010.

Filed Date: 09/24/2010.

Accession Number: 20100924-5002.

Comment Date: 5 p.m. Eastern Time on Friday, October 15, 2010.

Docket Numbers: ER10-2198-001.

Applicants: Lakefield Wind Project, LLC.

Description: Lakefield Wind Project, LLC submits tariff filing per 35.17(b): Lakefield Wind Project Supplement to Application for MBR Authorization to be effective 10/10/2010.

Filed Date: 09/24/2010.

Accession Number: 20100924-5039.

Comment Date: 5 p.m. Eastern Time on Friday, October 15, 2010.

Docket Numbers: ER10-2281-001.

Applicants: Constellation Mystic Power, LLC.

Description: Constellation Mystic Power, LLC submits amendment to its Application for Order Authorizing Market-Based Rates, and Request for Certain Waivers and Blanket Authorizations, etc.

Filed Date: 09/23/2010.

Accession Number: 20100923-0206.

Comment Date: 5 p.m. Eastern Time on Thursday, October 14, 2010.

Docket Numbers: ER10-2086-001; ER10-2513-001; ER10-2515-001; ER10-2516-001; ER10-2514-001.

Applicants: Alta Wind I, LLC, Alta Wind II, LLC, Alta Wind III, LLC, Alta Wind IV, LLC, Alta Wind V, LLC.

Description: Seller submits supplement filing to its market-based rate petitions.

Filed Date: 09/23/2010.

Accession Number: 20100923-0212.

Comment Date: 5 p.m. Eastern Time on Thursday, October 07, 2010.

Docket Numbers: ER10-2887-000.

Applicants: New Hampshire Industries, Inc.

Description: New Hampshire Industries, Inc. submits application for authorization to make wholesale sales of energy and capacity at negotiated, market-based rates.

Filed Date: 09/22/2010.

Accession Number: 20100923-0215.

Comment Date: 5 p.m. Eastern Time on Wednesday, October 13, 2010.

Docket Numbers: ER10-2889-000.

Applicants: Luminescent Systems, Inc.

Description: Luminescent Systems, Inc submits application for authorization to make wholesale sales of energy and capacity at negotiated, market-based rates.

Filed Date: 09/22/2010.

Accession Number: 20100923-0214.

Comment Date: 5 p.m. Eastern Time on Wednesday, October 13, 2010.

Docket Numbers: ER10-2890-000.

Applicants: Hammond Belgrade Energy, LLC.

Description: Hammond Belgrade Energy, LLC submits application for authorization to make wholesale sales of energy and capacity at negotiated market-based rates.

Filed Date: 09/23/2010.

Accession Number: 20100923-0213.

Comment Date: 5 p.m. Eastern Time on Thursday, October 14, 2010.

Docket Numbers: ER10-2891-000.

Applicants: Elektrisola, Inc.

Description: Elektrisola, Inc. submits application for authorization to make wholesale sales of energy and capacity at negotiated market-based rates.

Filed Date: 09/23/2010.

Accession Number: 20100923-0211.

Comment Date: 5 p.m. Eastern Time on Thursday, October 14, 2010.

Docket Numbers: ER10-2892-000.

Applicants: Lavalley Energy LLC.

Description: Lavalley Energy LLC submits application for authorization to make wholesale sales of energy and capacity at negotiated market-based rates.

Filed Date: 09/23/2010.

Accession Number: 20100923-0208.

Comment Date: 5 p.m. Eastern Time on Thursday, October 14, 2010.

Docket Numbers: ER10-2893-000.

Applicants: SJH Energy, LLC.

Description: SJH Energy, LLC submits an application for authorization to make wholesale sales of energy and capacity at negotiated, market-based rates.

Filed Date: 09/22/2010.

Accession Number: 20100923-0209.

Comment Date: 5 p.m. Eastern Time on Wednesday, October 13, 2010.

Docket Numbers: ER10-2894-000.

Applicants: PalletOne Energy, LLC.

Description: PalletOne Energy, LLC submits application for authorization to make wholesale sales of energy and capacity at negotiated market-based rates.

Filed Date: 09/23/2010.

Accession Number: 20100923-0210.

Comment Date: 5 p.m. Eastern Time on Thursday, October 14, 2010.

Docket Numbers: ER10-2904-000.

Applicants: Rhode Island Eastern Massachusetts Vermont Energy Control.

Description: Rhode Island Eastern Massachusetts Vermont Energy Control submits tariff filing per 35.12: Filing to Create Tariff Identifier for REMVEC Rate Schedule to be effective 9/23/2010.

Filed Date: 09/23/2010.

Accession Number: 20100923-5135.

Comment Date: 5 p.m. Eastern Time on Thursday, October 14, 2010.

Docket Numbers: ER10-2905-000.

Applicants: Scotia Capital Energy Inc.

Description: Scotia Capital Energy Inc. submits tariff filing per 35.12: Market-Based Rate to be effective 9/23/2010.

Filed Date: 09/23/2010.

Accession Number: 20100923-5142.

Comment Date: 5 p.m. Eastern Time on Thursday, October 14, 2010.

Docket Numbers: ER10-2906-000.

Applicants: Morgan Stanley Capital Group Inc.

Description: Morgan Stanley Capital Group Inc. submits tariff filing per 35.12: Baseline to be effective 9/23/2010.

Filed Date: 09/23/2010.

Accession Number: 20100923-5144.

Comment Date: 5 p.m. Eastern Time on Thursday, October 14, 2010.

Docket Numbers: ER10-2907-000.

Applicants: Indiana Michigan Power Company, Appalachian Power Company, Ohio Power Company, Kingsport Power Company, Columbus Southern Power Company, Kentucky Power Company, Wheeling Power Company.

Description: Indiana Michigan Power Company submits tariff filing per 35.12: 20100923—MBR AEP Op Co. to be effective 8/1/2016.

Filed Date: 09/23/2010.

Accession Number: 20100923-5147.

Comment Date: 5 p.m. Eastern Time on Thursday, October 14, 2010.

Docket Numbers: ER10-2908-000.

Applicants: MS Solar Solutions Corp.

Description: MS Solar Solutions Corp. submits tariff filing per 35.12: Baseline to be effective 9/23/2010.

Filed Date: 09/23/2010.

Accession Number: 20100923-5148.

Comment Date: 5 p.m. Eastern Time on Thursday, October 14, 2010.

Docket Numbers: ER10-2909-000.

Applicants: Power Contract Financing II, Inc.

Description: Power Contract Financing II, Inc. submits tariff filing per 35.12: Baseline to be effective 9/23/2010.

Filed Date: 09/23/2010.

Accession Number: 20100923-5149.

Comment Date: 5 p.m. Eastern Time on Thursday, October 14, 2010.

Docket Numbers: ER10-2910-000.

Applicants: Power Contract Financing II, LLC.

Description: Power Contract Financing II, LLC submits tariff filing per 35.12: Baseline to be effective 9/23/2010.

Filed Date: 09/23/2010.

Accession Number: 20100923-5150.

Comment Date: 5 p.m. Eastern Time on Thursday, October 14, 2010.

Docket Numbers: ER10-2911-000.

Applicants: Naniwa Energy LLC.

Description: Naniwa Energy LLC submits tariff filing per 35.12: Baseline to be effective 9/23/2010.

Filed Date: 09/23/2010.

Accession Number: 20100923-5154.

Comment Date: 5 p.m. Eastern Time on Thursday, October 14, 2010.

Docket Numbers: ER10-2912-000.

Applicants: Alliance For Cooperative Energy Services Power Marketing LLC.

Description: Alliance For Cooperative Energy Services Power Marketing LLC submits tariff filing per 35.12: Baseline Tariff to be effective 9/23/2010.

Filed Date: 09/23/2010.

Accession Number: 20100923-5157.

Comment Date: 5 p.m. Eastern Time on Thursday, October 14, 2010.

Docket Numbers: ER10-2913-000.

Applicants: NRG Energy Center Paxton LLC.

Description: NRG Energy Center Paxton LLC submits tariff filing per 35.12: NRG Energy Center Paxton FERC Electric Tariff to be effective 9/23/2010.

Filed Date: 09/23/2010.

Accession Number: 20100923-5158.

Comment Date: 5 p.m. Eastern Time on Thursday, October 14, 2010.

Docket Numbers: ER10-2914-000.

Applicants: NRG New Jersey Energy Sales LLC.

Description: NRG New Jersey Energy Sales LLC submits tariff filing per 35.12: NRG New Jersey Energy Sales FERC Electric Tariff to be effective 9/24/2010.

Filed Date: 09/24/2010.

Accession Number: 20100924-5018.

Comment Date: 5 p.m. Eastern Time on Friday, October 15, 2010.

Docket Numbers: ER10-2915-000.

Applicants: NRG Rockford II LLC.

Description: NRG Rockford II LLC submits tariff filing per 35.12: NRG Rockford II FERC Electric Tariff to be effective 9/24/2010.

Filed Date: 09/24/2010.

Accession Number: 20100924-5020.

Comment Date: 5 p.m. Eastern Time on Friday, October 15, 2010.

Docket Numbers: ER10-2916-000.

Applicants: NRG Rockford LLC.

Description: NRG Rockford LLC submits tariff filing per 35.12: NRG Rockford FERC Electric Tariff to be effective 9/24/2010.

Filed Date: 09/24/2010.

Accession Number: 20100924-5021.

Comment Date: 5 p.m. Eastern Time on Friday, October 15, 2010.

Docket Numbers: ER10-2917-000.

Applicants: Brookfield Power Piney & Deep Creek LLC.

Description: Brookfield Power Piney & Deep Creek LLC submits tariff filing per 35.12: Brookfield Power Piney & Deep Creek LLC Baseline Market-Based Rate Tariff to be effective 9/24/2010.

Filed Date: 09/24/2010.

Accession Number: 20100924-5022.

Comment Date: 5 p.m. Eastern Time on Friday, October 15, 2010.

Docket Numbers: ER10-2918-000.

Applicants: Carr Street Generating Station, L.P.

Description: Carr Street Generating Station, L.P. submits tariff filing per 35.12: Carr Street Generating Station, L.P. Baseline Market-Based Rate Tariff to be effective 9/24/2010.

Filed Date: 09/24/2010.

Accession Number: 20100924-5024.

Comment Date: 5 p.m. Eastern Time on Friday, October 15, 2010.

Docket Numbers: ER10-2919-000.

Applicants: Brookfield Renewable Energy Marketing US LLC.

Description: Brookfield Renewable Energy Marketing US LLC submits tariff filing per 35.12: Brookfield Renewable Energy Marketing US LLC Baseline Market-Based Rate Tariff to be effective 9/24/2010.

Filed Date: 09/24/2010.

Accession Number: 20100924-5029.

Comment Date: 5 p.m. Eastern Time on Friday, October 15, 2010.

Docket Numbers: ER10-2920-000.

Applicants: Erie Boulevard Hydropower, L.P.

Description: Erie Boulevard Hydropower, L.P. submits tariff filing per 35.12: Erie Boulevard Hydropower, L.P. Baseline Market-Based Rate Tariff to be effective 9/24/2010.

Filed Date: 09/24/2010.

Accession Number: 20100924-5030.

Comment Date: 5 p.m. Eastern Time on Friday, October 15, 2010.

Docket Numbers: ER10-2921-000.

Applicants: Great Lakes Hydro America, LLC.

Description: Great Lakes Hydro America, LLC submits tariff filing per 35.12: Great Lakes Hydro America, LLC Baseline Market-Based Rate Tariff to be effective 9/24/2010.

Filed Date: 09/24/2010.

Accession Number: 20100924-5031.

Comment Date: 5 p.m. Eastern Time on Friday, October 15, 2010.

Docket Numbers: ER10-2922-000.

Applicants: Hawks Nest Hydro LLC.

Description: Hawks Nest Hydro LLC submits tariff filing per 35.12: Hawks Nest Hydro LLC Baseline Market-Based Rate Tariff to be effective 9/24/2010.

Filed Date: 09/24/2010.

Accession Number: 20100924-5032.

Comment Date: 5 p.m. Eastern Time on Friday, October 15, 2010.

Docket Numbers: ER10-2923-000.

Applicants: Sunbury Generation LP.

Description: Sunbury Generation LP submits tariff filing per 35.12: Sunbury Generation LP Baseline MBR and Reactive Power Tariffs to be effective 9/24/2010.

Filed Date: 09/24/2010.

Accession Number: 20100924-5033.

Comment Date: 5 p.m. Eastern Time on Friday, October 15, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-25091 Filed 10-5-10; 8:45 am]

BILLING CODE 6717-01-P